DEPARTMENT OF ENERGY

Federal Energy Regulatory Commission

Combined Notice of Filings #2

September 29, 2010.

Take notice that the Commission received the following electric rate filings:

Docket Numbers: ER10-3152-000.

Applicants: Midwest Independent Transmission System Operator, Inc.

Description: Midwest Independent Transmission System Operator, Inc. submits tariff filing per 35.13(a)(2)(iii) G376 Termination to be effective 11/29/2010.

Filed Date: 09/29/2010.

Accession Number: 20100929-5067.

Comment Date: 5 p.m. Eastern Time on Wednesday, October 20, 2010.

Docket Numbers: ER10-3153-000.

Applicants: City of Vernon, California.

Description: City of Vernon, California submits tariff filing per 35.12: Baseline Filing of Transmission Owner Tariff to be effective 9/29/2010.

Filed Date: 09/29/2010.

Accession Number: 20100929-5072.

Comment Date: 5 p.m. Eastern Time on Wednesday, October 20, 2010.

Docket Numbers: ER10-3154-000.

Applicants: Niagara Generation, LLC.

Description: Niagara Generation, LLC submits tariff filing per 35.12: Baseline Filing of Market-Based Rate Tariff to be effective 9/29/2010.

Filed Date: 09/29/2010.

Accession Number: 20100929-5073.

Comment Date: 5 p.m. Eastern Time on Wednesday, October 20, 2010.

Docket Numbers: ER10-3155-000.

Applicants: The Dayton Power and Light Company.

Description: The Dayton Power and Light Company submits tariff filing per 35.13(a)(2)(iii) FERC Rate Schedule No. 44, Village of Lakeview to be effective 9/29/2010.

Filed Date: 09/29/2010.

Accession Number: 20100929-5077.

Comment Date: 5 p.m. Eastern Time on Wednesday, October 20, 2010.

Docket Numbers: ER10-3156-000.

Applicants: MeadWestvaco Virginia Corporation.

Description: MeadWestvaco Virginia Corporation submits tariff filing per 35.12: MeadWestvaco Virginia MBR Filing to be effective 9/28/2010.

Filed Date: 09/29/2010.

Accession Number: 20100929-5098.

Comment Date: 5 p.m. Eastern Time on Wednesday, October 20, 2010.

Docket Numbers: ER10-3157-000.

Applicants: City Power Marketing, LLC.

Description: City Power Marketing, LLC submits tariff filing per 35.12: City Power MBR Tariff to be effective 9/30/2010.

Filed Date: 09/29/2010.

Accession Number: 20100929-5099.

Comment Date: 5 p.m. Eastern Time on Wednesday, October 20, 2010.

Docket Numbers: ER10-3158-000.

Applicants: Dillon Wind LLC.

Description: Dillon Wind LLC submits its baseline tariff filing of Market-Based Rate Tariff, to be effective 9/29/2010.

Filed Date: 09/29/2010.

Accession Number: 20100929-5117.

Comment Date: 5 p.m. Eastern Time on Wednesday, October 20, 2010.

Docket Numbers: ER10-3159-000.

Applicants: Dry Lake Wind Power, LLC.

Description: Dry Lake Wind Power, LLC submits tariff filing per 35.12: Baseline Filing of Market-Based Rate Tariff to be effective 9/29/2010.

Filed Date: 09/29/2010.

Accession Number: 20100929-5119.

Comment Date: 5 p.m. Eastern Time on Wednesday, October 20, 2010.

Docket Numbers: ER10-3160-000.

Applicants: The United Illuminating Company.

Description: The United Illuminating Company submits tariff filing per 35.12: The United Illuminating Company Baseline MBR Tariff to be effective 9/29/2010.

Filed Date: 09/29/2010.

Accession Number: 20100929-5120.

Comment Date: 5 p.m. Eastern Time on Wednesday, October 20, 2010.

Docket Numbers: ER10-3161-000.

Applicants: Shiloh I Wind Project, LLC.

Description: Shiloh I Wind Project, LLC submits its baseline tariff of Market-Based Rate Tariff, pursuant to Order No 714, to be effective 9/29/2010.

Filed Date: 09/29/2010.

Accession Number: 20100929-5121.

Comment Date: 5 p.m. Eastern Time on Wednesday, October 20, 2010.

Docket Numbers: ER10-3162-000.

Applicants: Mountain View Power Partners III, LLC.

Description: Mountain View Power Partners III, LLC submits tariff filing per 35.12: Baseline Filing of Market-Based Rate Tariff to be effective 9/29/2010.

Filed Date: 09/29/2010.

Accession Number: 20100929-5123.

Comment Date: 5 p.m. Eastern Time on Wednesday, October 20, 2010.

Docket Numbers: ER10-3163-000.

Applicants: The Dayton Power and Light Company.

Description: The Dayton Power and Light Company submits tariff filing per 35.13(a)(2)(iii) FERC Rate Schedule No. 45, Village of Mendon to be effective 9/29/2010.

Filed Date: 09/29/2010.

Accession Number: 20100929-5124.

Comment Date: 5 p.m. Eastern Time on Wednesday, October 20, 2010.

Docket Numbers: ER10-3165-000.

Applicants: New York Independent System Operator, Inc.

Description: New York Independent System Operator, Inc. submits tariff filing per 35.13(a)(2)(iii) Stephentown Service Agreement between Niagara Mohawk and Beacon Power to be effective 11/29/2010.

Filed Date: 09/29/2010.

Accession Number: 20100929-5127.

Comment Date: 5 p.m. Eastern Time on Wednesday, October 20, 2010.

Docket Numbers: ER10-3166-000.

Applicants: Cadillac Renewable Energy LLC.

Description: Cadillac Renewable Energy LLC submits tariff filing per 35.12: Cadillac Renewable Energy LLC MBR Tariff to be effective 9/29/2010.

Filed Date: 09/29/2010.

Accession Number: 20100929-5128.

Comment Date: 5 p.m. Eastern Time on Wednesday, October 20, 2010.

Docket Numbers: ER10-3167-000.

Applicants: Black Bear Hydro Partners, LLC.

Description: Black Bear Hydro Partners, LLC submits its Baseline Filing of Market-Based Rate Tariff, to be effective 9/29/2010.

Filed Date: 09/29/2010.

Accession Number: 20100929-5129.

Comment Date: 5 p.m. Eastern Time on Wednesday, October 20, 2010.

Docket Numbers: ER10-3168-000.

Applicants: ArcLight Energy Marketing, LLC.

Description: ArcLight Energy Marketing, LLC submits tariff filing per 35.12: ArcLight Energy Marketing, LLC MBR Tariff to be effective 9/29/2010.

Filed Date: 09/29/2010.

Accession Number: 20100929-5131.

Comment Date: 5 p.m. Eastern Time on Wednesday, October 20, 2010.

Docket Numbers: ER10-3169-000.

Applicants: Michigan Power Limited Partnership.

Description: Michigan Power Limited Partnership submits its baseline filing of Market-Based Rate Tariff, to be effective 9/29/2010.

Filed Date: 09/29/2010.

Accession Number: 20100929-5133.

Comment Date: 5 p.m. Eastern Time on Wednesday, October 20, 2010.

Docket Numbers: ER10-3170-000.

Applicants: Avista Corporation.

Description: Avista Corporation submits tariff filing per 35: Avista Corp Attachment K Docket No. OA08-25-004 to be effective 9/30/2010.

Filed Date: 09/29/2010.

Accession Number: 20100929-5178.

Comment Date: 5 p.m. Eastern Time on Wednesday, October 20, 2010.

Docket Numbers: ER10-3171-000.

Applicants: NorthWestern Corporation.

Description: NorthWestern Corporation submits tariff filing per 35.12: NorthWestern Corporation Electric Tariffs to be effective 9/29/2010.

Filed Date: 09/29/2010.

Accession Number: 20100929-5186.

Comment Date: 5 p.m. Eastern Time on Wednesday, October 20, 2010.

Docket Numbers: ER10-3172-000.

Applicants: MidAmerican Energy Company.

Description: MidAmerican Energy Company submits tariff filing per 35.12: Market-Based Rate Tariff—Baseline Filing to be effective 9/30/2010.

Filed Date: 09/29/2010.

Accession Number: 20100929-5189.

Comment Date: 5 p.m. Eastern Time on Wednesday, October 20, 2010.

Docket Numbers: ER10-3173-000.

Applicants: Gilberton Power Company.

Description: Gilberton Power Company submits tariff filing per 35.12: Baseline Filing for Gilberton Power Company Market-Based Rate Tariff to be effective 9/28/2010.

Filed Date: 09/29/2010.

Accession Number: 20100929-5190.

Comment Date: 5 p.m. Eastern Time on Wednesday, October 20, 2010.

Docket Numbers: ER10-3174-000.

Applicants: Maine Public Service Company.

Description: Maine Public Service Company submits tariff filing per 35.12: Electronic Baseline Tariff Filing to be effective 9/29/2010.

Filed Date: 09/29/2010.

Accession Number: 20100929-5198.

Comment Date: 5 p.m. Eastern Time on Wednesday, October 20, 2010.

Docket Numbers: ER10-3175-000.

Applicants: The Dayton Power and Light Company.

Description: The Dayton Power and Light Company submits tariff filing per 35.13(a)(2)(iii) FERC Rate Schedule No. 50, Village of Minster to be effective 9/29/2010.

Filed Date: 09/29/2010.

Accession Number: 20100929-5205.

Comment Date: 5 p.m. Eastern Time on Wednesday, October 20, 2010.

Docket Numbers: ER10-3176-000.

Applicants: Gerdau Ameristeel Energy, Inc.

Description: Gerdau Ameristeel Energy, Inc. submits tariff filing per 35.12: Gerdau Ameristeel Energy, Inc. to be effective 9/29/2010.

Filed Date: 09/29/2010.

Accession Number: 20100929-5209.

Comment Date: 5 p.m. Eastern Time on Wednesday, October 20, 2010.

Docket Numbers: ER10-3177-000.

Applicants: UGI Energy Services, Inc.

Description: UGI Energy Services, Inc. submits tariff filing per 35.12: UGI Energy Services, Inc. to be effe ctive 9/29/2010.

Filed Date: 09/29/2010.

Accession Number: 20100929-5210.

Comment Date: 5 p.m. Eastern Time on Wednesday, October 20, 2010.

Docket Numbers: ER10-3178-000.

Applicants: Windstar Energy, LLC.

Description: Windstar Energy, LLC submits tariff filing per 35.12: Winstar LLC Market-Based Rate Baseline Filing to be effective 9/28/2010.

Filed Date: 09/29/2010.

Accession Number: 20100929-5213.

Comment Date: 5 p.m. Eastern Time on Wednesday, October 20, 2010.

Docket Numbers: ER10-3179-000.

Applicants: Pinpoint Power, LLC.

Description: Pinpoint Power, LLC submits tariff filing per 35.12: Pinpoint Power, LLC MBR Tariff to be effective 9/29/2010.

Filed Date: 09/29/2010.

Accession Number: 20100929-5217.

Comment Date: 5 p.m. Eastern Time on Wednesday, October 20, 2010.

Docket Numbers: ER10-3180-000.

Applicants: Midwest Independent Transmission System.

Description: Midwest Independent Transmission System Operator, Inc. submits tariff filing per 35.13(a)(2)(iii: Attachment O GRE to be effective 12/31/9998.

Filed Date: 09/29/2010.

Accession Number: 20100929-5233.

Comment Date: 5 p.m. Eastern Time on Wednesday, October 20, 2010.

Docket Numbers: ER10-3181-000.

Applicants: UGI Development Company.

Description: UGI Development Company submits tariff filing per 35.12: UGI Development Company to be effective 9/29/2010.

Filed Date: 09/29/2010.

Accession Number: 20100929-5236.

Comment Date: 5 p.m. Eastern Time on Wednesday, October 20, 2010.

Docket Numbers: ER10-3182-000.

Applicants: Clean Currents LLC.

Description: Clean Currents LLC submits tariff filing per 35.12: Clean Currents LLC MBR eTariff Filing to be effective 9/29/2010.

Filed Date: 09/29/2010.

Accession Number: 20100929-5245.

Comment Date: 5 p.m. Eastern Time on Wednesday, October 20, 2010.

Docket Numbers: ER10-3183-000.

Applicants: Sunoco Power Marketing, LLC.

Description: Sunoco Power Marketing, LLC submits tariff filing per 35.12: Sunoco Power Marketing, LLC eTariff MBR Filing to be effective 9/29/2010.

Filed Date: 09/29/2010.

Accession Number: 20100929-5258.

Comment Date: 5 p.m. Eastern Time on Wednesday, October 20, 2010.

Docket Numbers: ER10-3184-000.

Applicants: FortisUS Energy Corporation.

Description: FortisUS Energy Corporation submits tariff filing per 35.12: FortisUS Market-Based Rate Baseline Tariff to be effective 9/29/2010.

Filed Date: 09/29/2010.

Accession Number: 20100929-5262.

Comment Date: 5 p.m. Eastern Time on Wednesday, October 20, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-25371 Filed 10-7-10; 8:45 am]

BILLING CODE 6717-01-P